DEPARTMENT OF COMMERCE

Foreign-Trade Zones Board

[Order No. 1406]

Grant Of Authority For Subzone Status, Epson Portland, Inc. (Inkjet Cartridges), Hillsboro, Oregon

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Port of Portland, grantee of FTZ 45, has made application to the Board for authority to establish special-purpose subzone status at the inkjet cartridge manufacturing plant of Epson Portland, Inc. (EPI), located in Hillsboro, Oregon (FTZ Docket 1-2005, filed 1-04-05, and amended 4-26-05, to accept the restriction described below).

Whereas, notice inviting public comment has been given in the Federal Register (70 FR 2850, 1/18/05); and,

Whereas, the Board adopts the findings and recommendations of the examiner's report, and finds that the requirements of the FTZ Act and the Board's regulations would be satisfied, and that approval of the application, as amended, would be in the public interest if approval were subject to specific conditions;

Now, therefore, the Board hereby grants authority for subzone status for activity related to inkjet cartridges at the manufacturing plant of Epson Portland, Inc., located in Hillsboro, Oregon (Subzone 45F), as described in the application, as amended, and Federal Register notice, and subject to the FTZ Act and the Board's regulations, including § 400.28, and further subject to the conditions listed below:

Privileged foreign status (19 CFR Part 146.41) shall be elected on foreign merchandise that falls under HTSUS Subheadings 3204, 3205, 3206, 3207, 3212, or 3901.20, or where the foreign merchandise in question is classified as a pigment, pigment preparation, coloring preparation, or colorant.¹ The above condition specifically excludes foreign inks, as described in the application, and classified under HTSUS Subheadings #3215.11.0060 and #3215.19.0060.

¹ This action specifically excludes the use of foreign-trade zone procedures for foreign synthetic indigo dye (HTSUS Subheadings #3204.15.1000, #3204.15.4000 and #3204.15.8000).

Signed at Washington, DC, this 9th day of September 2005.

Joseph A. Spetrini,
Acting Assistant Secretary of Commerce for Import Administration, Alternate Chairman, Foreign-Trade Zones Board
Attest:
Dennis Puccinelli,
Executive Secretary.

[FR Doc. 05-18716 Filed 9-19-05; 8:45 am]

BILLING CODE 3510-DS-S